DEPARTMENT OF THE INTERIOR

Bureau of Ocean Energy Management

[Docket No. BOEM-2017-0034]

Final Programmatic Environmental Impact Statement for Geological and Geophysical Activities on the Gulf of Mexico Outer Continental Shelf MMAA104000

AGENCY: Bureau of Ocean Energy Management, Interior.

ACTION: Notice of availability of a Final Programmatic Environmental Impact Statement.

SUMMARY: The Bureau of Ocean Energy Management (BOEM) is announcing the availability of a Final Programmatic Environmental Impact Statement (EIS) for evaluating potential environmental effects of geological and geophysical (G&G) activities in OCS waters of the GOM. The Final Programmatic EIS analyzes potential impacts of the proposed action, provides an analysis of reasonable alternatives to the proposed action, and identifies BOEM's preferred alternative. The Final Programmatic EIS considers G&G activities for BOEM's three programs, i.e., Oil and Gas, Renewable Energy, and Marine Minerals. These activities include, but are not limited to, seismic surveys (deep-penetration and high-resolution geophysical), sidescan-sonar surveys, electromagnetic surveys, and geological and geochemical sampling. The Final Programmatic EIS also evaluates mitigation measures to reduce potential impacts of G&G activities on marine resources, such as sound impacts to marine species and bottom-disturbance impacts on benthic communities and cultural resources.

The Final Programmatic EIS is available on BOEM's Web sites at http://www.boem.gov/GOM-G-G-PEIS and http://www.boem.gov/nepaprocess/. BOEM will primarily distribute digital copies of the Final Programmatic EIS on compact discs. You may request a paper copy or the location of a library with a paper copy of the Final Programmatic EIS from Mr. Greg Kozlowski by telephone at (504) 736-2512 or by email at greg.kozlowski@boem.gov.

FOR FURTHER INFORMATION CONTACT: Jill Lewandowski, Ph.D., Chief, Division of Environmental Assessment, Office of Environmental Programs, Bureau of Ocean Energy Management, 45600 Woodland Road, VAM-OEP, Sterling, VA 20166 or by email at gomggeis@boem.gov.

Authority: This Notice of Availability is published pursuant to the regulations (40 CFR part 1503 and 43 CFR part 46) implementing the provisions of the National Environmental Policy Act of 1969, as amended (42 U.S.C. 4321 et seq. (1988)).

Dated: July 31, 2017.
Walter D. Cruickshank,
Acting Director, Bureau of Ocean Energy Management.

[FR Doc. 2017-16421 Filed 8-3-17; 8:45 am]

BILLING CODE 4310-MR-P